COMMITTEE FOR PURCHASE FROM PEOPLE WHO ARE BLIND OR SEVERELY DISABLED

Procurement List; Addition and Deletions

AGENCY: Committee for Purchase From People Who Are Blind or Severely Disabled.

ACTION: Addition to and Deletions from the Procurement List.

SUMMARY: This action adds a product to the Procurement List that will be furnished by nonprofit agency employing persons who are blind or have other severe disabilities, and deletes products and a service from the Procurement List previously furnished by such agencies.

DATES: Effective May 4, 2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Addition

On 1/16/2015 (80 FR 2400-2401), the Committee for Purchase From People Who Are Blind or Severely Disabled published notice of proposed addition to the Procurement List.

After consideration of the material presented to it concerning capability of qualified nonprofit agency to furnish the product and impact of the addition on the current or most recent contractors, the Committee has determined that the product listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the product to the Government.

2. The action will result in authorizing small entities to furnish the product to the Government.

3. There are no known regulatory alternatives which would accomplish the objectives of the Javits-Wagner-O'Day Act (41 U.S.C. 8501-8506) in connection with the product proposed for addition to the Procurement List.

End of Certification

Accordingly, the following product is added to the Procurement List:

Product

PRODUCT NAME/NSN: Small Web Door Assembly/3915-04-000-4368.

MANDATORY FOR PURCHASE BY: U.S. Postal Service.

MANDATORY SOURCE OF SUPPLY: Four Rivers Resource Services, Inc., Linton, IN.

CONTRACTING ACTIVITY: U.S. Postal Service, Topeka, KS.

DISTRIBUTION: C-List.

Deletions

On 2/27/2015 (80 FR 10668), the Committee for Purchase From People Who Are Blind or Severely Disabled published notice of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

PRODUCT NAME/NSNS: Case, Flag, Hardwood.

8345-00-NSH-0013

8345-00-NSH-0014

WAS MANADATORY FOR: U.S. Fleet Forces Command, Norfolk, VA.

PRODUCT NAME/NSNS: Envelope, Inter-Departmental.

7530-01-463-3908—5-column

7530-01-463-3909—3-column

7530-01-463-3910—5-column, 100% recycle

7530-01-498-1086—Blue Kraft

7530-01-498-1088—Yellow Kraft

7530-01-498-1089—Red Kraft

PREVIOUS MANADATORY SOURCE: Gateway Community Industries, Inc., Kingston, NY.

WAS MANADATORY FOR: General Services Administration, New York, NY.

PRODUCT NAMES/NSNS: HP C4092A compatible/7510-01-558-6166.

Skilcraft Toner Cartridge/7510-00-NIB-0641.

PREVIOUS MANADATORY SOURCE: Alabama Industries for the Blind, Talladega, AL.

WAS MANADATORY FOR: General Services Administration, New York, NY.

PRODUCT NAME/NSN: Card Set, Guide, File, Pressboard, Alphabetical, 1/5 Cut, Light Green, 8 ½″ x 11″/7530-00-989-0698.

PREVIOUS MANADATORY SOURCE: Georgia Industries for the Blind, Bainbridge, GA.

WAS MANADATORY FOR: General Services Administration, New York, NY.

Service

SERVICE TYPE: Grounds Maintenance.

Oakland Army Base and Naval Supply Center, Oakland, CA.

PREVIOUS MANADATORY SOURCE: Rubicon Programs, Inc., Richmond, CA.

WAS MANADATORY FOR: Dept of the Navy, U.S. Fleet Forces Command, Norfolk, VA.

Barry S. Lineback,
Director, Business Operations.

[FR Doc. 2015-07687 Filed 4-2-15; 8:45 am]

BILLING CODE 6353-01-P